DEPARTMENT OF HEALTH AND HUMAN SERVICES

National Institutes of Health

National Heart, Lung, and Blood Institute; Notice of Meeting

Notice is hereby given of a change in the meeting of the National Heart, Lung, and Blood Advisory Council Meeting, September 9, 2014, 08:00 a.m. to 5:00 p.m., National Institutes of Health, Building 31, 31 Center Drive, Bethesda, MD, 20892, which was published in the Federal Register on July 18, 2014, 79 FR 42024.

This notice is being amended to change the time of the September 9, 2014 National Heart, Lung, and Blood Advisory Council Meeting start time to 12:30 p.m. and the change the location of the meeting to the National Institutes of Health, Building 35A, Porter Building, Room 640, 35A Convent Drive, Bethesda, MD 20892. The meeting is open to the public.

Dated: August 15, 2014.
Michelle Trout,
Program Analyst, Office of Federal Advisory Committee Policy.

[FR Doc. 2014-19790 Filed 8-20-14; 8:45 am]

BILLING CODE 4140-01-P